DEPARTMENT OF TRANSPORTATION

Coast Guard

[USCG-2001-10402]

Chemical Transportation Advisory Committee; Charter Renewal

AGENCY: Coast Guard, DOT.

ACTION: Notice of charter renewal.

SUMMARY: The Secretary of Transportation has renewed the charter for the Chemical Transportation Advisory Committee (CTAC) for 2 years from May 27, 2001 until May 27, 2003. CTAC is a Federal advisory committee under 5 U.S.C. App.2. It advises the Coast Guard on safe transportation and handling of hazardous materials in bulk on U.S.-flag vessels and barges in U.S. ports and waterways.

ADDRESSES: You may request a copy of the charter by writing to Commandant (G-MSO-3), U.S. Coast Guard, 2100 Second Street SW., Washington, DC 20593-0001; by calling 202-267-1217; or by faxing 202-267-4570. This notice and the charter are available on the Internet at http://dms.dot.gov in docket [USCG-2001-10402].

FOR FURTHER INFORMATION CONTACT: Commander James Michalowski, Executive Director of CTAC, or Ms. Sara Ju, Assistant to the Executive Director, telephone 202-267-1217, fax 202-267-4570.

Dated: August 16, 2001.
Joseph J. Angelo,
Director of Standards, Marine Safety and Environmental Protection.

[FR Doc. 01-21182 Filed 8-21-01; 8:45 am]

BILLING CODE 4910-15-P